FEDERAL COMMUNICATIONS COMMISSION

Notice of Public Information Collection(s) Approved by the Office of Management and Budget

July 17, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Leslie Haney, Leslie.Haney@fcc.gov, (202) 418-1002.

SUPPLEMENTARY INFORMATION:

OMB Control Number: 3060-0434.

OMB Approval Date: May 8, 2008.

Expiration Date: May 31, 2011.

Title: 47 CFR Section 90.20(e)(6), Stolen Vehicle Recovery System Requirements.

Form No.: Not applicable.

Estimated Annual Burden: 20 responses; 4 hours per response; 80 hours total per year.

Obligation to Respond: Required to Obtain or Retain Benefits.

Nature and Extent of Confidentiality: There is no need for confidentiality.

Needs and Uses: The frequency 173.075 MHz is available for stolen vehicle recovery systems on a shared basis with Federal stations in the fixed and mobile services. Applications for base stations operating on the 173.075 MHz frequency band shall require coordination with the Federal Government. Applicants shall perform an analysis for each base station located with 169 km (105 miles) of a TV channel 7 transmitter for potential interference to TV channel 7 viewers. Applicants will have to certify to certain requirements set out in rule Section 90.20(e)(6).

Federal Communications Commission.
Marlene H. Dortch,
Secretary.

[FR Doc. E8-16993 Filed 7-23-08; 8:45 am]

BILLING CODE 6712-01-P